DEPARTMENT OF LABOR

Employment and Training Administration

[TA-W-63,601]

General Ribbon Corporation, Chatsworth, CA; Notice of Termination of Investigation

Pursuant to Section 221 of the Trade Act of 1974, as amended, an investigation was initiated on June 25, 2008 in response to a worker petition filed on behalf of workers of General Ribbon Corporation, Chatsworth, California.

The petitioning group of workers is covered by an active certification (TA-W-63,601) which expires on November 30, 2008. Consequently, further investigation in this case would serve no purpose, and the investigation has been terminated.

Signed at Washington, DC, this 27th day of June 2008.
Richard Church,
Certifying Officer, Division of Trade Adjustment Assistance.

[FR Doc. E8-15336 Filed 7-7-08; 8:45 am]

BILLING CODE 4510-FN-P